DEPARTMENT OF THE INTERIOR

Fish and Wildlife Service

[FWS-R4-ES-2009-N002; 40120-1113-0000-C4]

Endangered and Threatened Wildlife and Plants; 5-Year Status Reviews of 10 Southeastern Species

AGENCY: Fish and Wildlife Service, Interior.

ACTION: Notice of initiation of reviews; request for information.

SUMMARY: We, the U.S. Fish and Wildlife Service (Service), are initiating 5-year status reviews of 10 species under the Endangered Species Act of 1973, as amended (Act). We conduct these reviews to ensure that the classification of species as threatened or endangered on the Lists of Endangered and Threatened Wildlife and Plants is accurate. A 5-year review is an assessment of the best scientific and commercial data available at the time of the review.

DATES: To allow us adequate time to conduct these reviews, we must receive your comments or information on or before June 8, 2010. However, we will continue to accept new information about any listed species at any time.

ADDRESSES: For instructions on how to submit information and review information we receive on these species, see “Request for New Information.”

FOR FURTHER INFORMATION CONTACT: For species-specific information, see “Request for New Information.”

SUPPLEMENTARY INFORMATION: Under the Act (16 U.S.C. 1531 et seq.), we maintain lists of endangered and threatened wildlife and plant species in the Code of Federal Regulations (CFR) at 50 CFR 17.11 (for wildlife) and 17.12 (for plants) (collectively referred to as the List). The List is also available on our Internet site at http://endangered.fws.gov/wildlife.html#Species. Section 4(c)(2)(A) of the Act requires that we conduct a review of listed species at least once every 5 years. Then, on the basis of such reviews, under section 4(c)(2)(B), we determine whether or not any species should be removed from the List (delisted), or reclassified from endangered to threatened or from threatened to endangered. If we consider delisting a species, we must support the action by the best scientific and commercial data available. We must consider if these data substantiate that the species is neither endangered nor threatened for one or more of the following reasons: (1) The species is considered extinct; (2) the species is considered to be recovered; and/or (3) the original data available when the species was listed, or the interpretation of such data, were in error. Any change in Federal classification would require a separate rulemaking process. We make amendments to the List through final rules published in the Federal Register.

Our regulations at 50 CFR 424.21 require that we publish a notice in the Federal Register announcing those species currently under our active review. This notice announces our active review of seven species that are currently listed as endangered: Mississippi sandhill crane (Grus canadensis pulla), Alabama cavefish (Speoplatyrhinus poulsoni), Alabama lampmussel (Lampsilis virescens), pale lilliput (Toxolasma cylindrellus), pondberry (Lindera melissifolia), green pitcher-plant (Sarracenia oreophila), and Louisiana quillwort (Isoetes louisianensis). This notice also announces our active review of three species that are currently listed as threatened: Gopher tortoise (Gopherus polyphemus), yellow-blotched map turtle (Graptemys flavimaculata), and Mohr's Barbara button (Marshalli mohrii).

What Information Do We Consider in a 5-year Review?

A 5-year review considers the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

Definitions

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How Do We Determine Whether a Species Is Enda ngered or Threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence.

What Could Happen as a Result of This Review?

If we find that there is new information concerning any of these 10 species indicating that a change in classification may be warranted, we may propose a new rule that could do one of the following: (a) Reclassify the species from endangered to threatened (downlist); (b) reclassify the species from threatened to endangered (uplist); or (c) delist the species. If we determine that a change in classification is not warranted, then the species will remain on the List under its current status.

Request for New Information

To do any of the following, contact the person associated with the species you are interested in below:

(a) To get more information on a species,

(b) To submit information on a species, or

(c) To review information we receive, which will be available for public inspection by appointment, during normal business hours, at the listed addresses.

• Alabama lampmussel and pale liliput: Daphne Field Office, U.S. Fish and Wildlife Service, 1208-B Main St., Daphne, AL 36526, fax 251/441-6222. For information on these mussels, contact Jeff Powell at the Daphne Field Office (phone 251/441-5181, e-mail jeff_powell@fws.gov).

• For the remaining 8 species: Jackson Field Office, U.S. Fish and Wildlife Service, 6578 Dogwood View Parkway, Ste. A, Jackson, MS 39213, fax 601/965-4340. For information on the Alabama cavefish, contact Daniel Drennen at the Jackson Field Office (phone 601/321-1127, e-mail daniel_drennen@fws.gov). For the gopher tortoise, contact Shauna Ginger at the Jackson Field Office (phone 601/321-1130, e-mail shauna_ginger@fws.gov). For information on the Mississippi sandhill crane and yellow-blotched map turtle, contact Linda LaClaire at the Jackson Field Office (phone 601/321-1126, e-mail linda_laclaire@fws.gov). For information on pondberry, green pitcher- plant, Mohr's Barbara button, and Louisiana quillwort, contact Cary Norquist at the Jackson Field Office (phone 601/321-1128, e-mail cary_norquist@fws.gov).

We request any new information concerning the status of any of these 10 species. See “What information do we consider in a 5-year review?” heading for specific criteria. Information submitted should be supported by documentation such as maps, bibliographic references, methods used to gather and analyze the data, and/or copies of any pertinent publications, reports, or letters by knowledgeable sources.

Public Availability of Comments

Before including your address, phone number, e-mail address, or other personal identifying information in your comment, you should be aware that the entire comment—including your personal identifying information—may be made publicly available at any time. While you can ask us in your comment to withhold your personal identifying information from public review, we cannot guarantee that we will be able to do so.

Authority: We publish this document under the authority of the Endangered Species Act (16 U.S.C. 1531 et seq.).

Dated: December 30, 2009.
Patrick Leonard,
Acting Regional Director, Southeast Region.

[FR Doc. 2010-8103 Filed 4-8-10; 8:45 am]

BILLING CODE 4310-55-P